DEPARTMENT OF COMMERCE

National Oceanic and Atmospheric Administration

[Docket No. 041029298-5209-04; I.D. 052004A]

RIN 0648-AS38

Magnuson-Stevens Act Provisions; Fishing Capacity Reduction Program; Pacific Coast Groundfish Fishery; California, Washington, and Oregon Fisheries for Coastal Dungeness Crab and Pink Shrimp

AGENCY: National Marine Fisheries Service (NMFS), National Oceanic and Atmospheric Administration, Commerce.

ACTION: Notice of fee effective date.

SUMMARY: NMFS issues this establishing the effective date of fees for repaying the $35,662,471 reduction loan financing the Pacific Coast groundfish fishing capacity reduction program.

DATES: The groundfish program fee payment collection will begin on September 8, 2005.

ADDRESSES: Send questions about this notice to Michael L. Grable, Chief, Financial Services Division, National Marine Fisheries Service, 1315 East-West Highway, Silver Spring, MD 20910-3282.

FOR FURTHER INFORMATION CONTACT: Michael L. Grable, (301) 713-2390.

SUPPLEMENTARY INFORMATION:

I. Background

Sections 312(b)-(e) of the Magnuson-Stevens Fishery Conservation and Management Act (16 U.S.C. 1861a(b) through (e)) is the general authority for fishing capacity reduction programs. In particular, section 312(d) authorizes industry fee systems for repaying reduction loans which finance reduction program costs.

Subpart L of 50 CFR part 600 is the framework rule generally implementing section 312(b)-(e).

Sections 1111 and 1112 of the Merchant Marine Act, 1936 (46 App. U.S.C. 1279f and 1279g) generally authorizes loans financing reduction programs.

Enacted on February 20, 2003, section 212 of Division B, Title II, of Public Law 108-7 (section 212) specifically authorizes a fishing capacity reduction program for that portion of the limited entry trawl fishery under the Pacific Coast Groundfish Fishery Management Plan whose permits, excluding those registered to whiting catcher-processors are endorsed for trawl gear operation. This is the program's reduction fishery.

The groundfish reduction program's objective was to reduce the number of vessels and permits endorsed for the operation of groundfish trawl gear. The program also involved corollary fishing capacity reduction in the California, Oregon, and Washington fisheries for Dungeness crab and pink shrimp. These are the program's fee-share fisheries.

All post-reduction fish landings from the reduction fishery and the six fee-share fisheries are subject to the groundfish program's fee. The object of this notice is to establish the effective date of the fee which fish sellers must pay and fish buyers must collect on all fee fish landed from these seven fisheries.

NMFS implemented the groundfish program by Federal Register notification (rather than by the more usual regulatory method). NMFS proposed the implementing notice on May 28, 2003 (68 FR 31653) and published the final notice on July 18, 2003 (68 FR 42613). Please refer to the final notice for groundfish program details.

NMFS allocated the $35,662,471 reduction loan to the reduction fishery and to each of the six fee-share fisheries as follows:

1. Reduction fishery, $28,428,719; and

2. Fee-share fisheries:

a. California coastal Dungeness crab fishery, $2,334,334,

b. California pink shrimp fishery, $674,202,

c. Oregon coastal Dungeness crab fishery, $1,367,545,

d. Oregon pink shrimp fishery, $2,228,845,

e. Washington coastal Dungeness crab fishery, $369,426, and

f. Washington pink shrimp fishery, $259,400.

Each of these allocations became a reduction loan subamount repayable by fees from the fishery to which the subamount relates.

On November 4, 2003, NMFS published another Federal Register document (68 FR 62435) advising the public that NMFS would, in one month, tender the groundfish program's reduction payments to the 91 accepted bidders. On December 4, 2003, NMFS required all accepted bidders to permanently stop all further fishing with the fishing vessels and permits whose fishing privileges they had relinquished in return for reduction payments. Subsequently, NMFS:

1. Disbursed $45,662,471 in reduction payments to 91 accepted bidders;

2. Revoked the relinquished Federal permits;

3. Advised California, Oregon, and Washington about the relinquished state permits or licenses;

4. Arranged with the National Vessel Documentation Center for permanent revocation of the reduction vessels' fishery trade endorsements; and

5. Notified the U.S. Maritime Administration to prohibit placement of the reduction vessels under foreign registry or the operational authority of foreign countries.

On November 16, 2004, NMFS published a Federal Register document (69 FR 67100) proposing regulations to implement the groundfish program's industry fee system.

In response to public comment about this proposed rule, NMFS modified it and published a second proposed rule in the Federal Register on April 8, 2005 (70 FR 17949).

NMFS published in the Federal Register on July 13, 2005 (70 FR 40225), the final rule to implement the industry fee system for repaying the groundfish program's reduction loan. The regulations implementing the program are located at § 600.1012 of 50 CFR part 600's subpart M.

II. Purpose

This document's purpose is to establish, in accordance with the framework rule's § 600.1013(d), the date from and after which the fee is effective.

III. Notice

Groundfish program fee payment and collection will begin on September 8, 2005.

From and after this date, all groundfish program fish sellers must pay the groundfish program fee in accordance with the applicable regulations.

From and after this date, all groundfish program fish buyers must collect the groundfish program fee in accordance with the applicable regulations.

From and after this date, all groundfish program fish buyers must deposit, disburse, record, and report groundfish program fee matters in accordance with the applicable regulations.

The initial fee applicable to the groundfish program's reduction fishery and to each of its six fee-share fishery is as follows:

Fishery | Fee Rate
Reduction fishery | 5.00%
California coastal Dungeness crab | 1.24%
California pink shrimp | 5.00%
Oregon coastal Dungeness crab | 0.55%
Oregon pink shrimp | 3.75%
Washington coastal Dungeness crab | 0.16%
Washington pink shrimp | 1.50%

Fish sellers and fish buyers must pay and collect the groundfish program's fee in the framework rule manner common to all fishing capacity reduction programs. Consequently, groundfish program fish sellers and fish buyers should read the framework rule's § 600.1013 to understand how fish sellers must pay, and fish buyers must collect, the groundfish program fee.

Generally, fish buyers must deposit and disburse, and keep records and report about, the groundfish program fee in the framework rule manner common to all buybacks. Nevertheless, the groundfish program rule makes specific changes in the framework rule deposit, disbursement, records, and reports requirements. Consequently, groundfish program fish buyers should read both the framework rule's § 600.1014 and the groundfish program rule's paragraph (i) to understand the full deposit, disbursement, records, and reports provisions to which the groundfish program's collected fees are subject.

The following table identifies the various 50 CFR Part 600 rules involved in or affecting the groundfish program fee:

Description | Subpart | Section
Reduction Framework Rule | L | 600.1012 through 600.1016
Groundfish Program Fee Rule | M | 600.1102

The applicable framework rule sections involve the following reduction loan and fee matters which are common to all reduction programs:

Section | Matter
Section 600.1012 | Loan obligation, principal amount, interest rate, payment term, and penalties for non-payment and non-collection.
Section 600.1013 | Fee amount, fee rate, how fish sellers pay the fee, and how fish buyers collect the fee.
Section 600.1014 | How fish buyers deposit collected fees, disburse collected fees to NMFS, keep fee records, and make fee reports.
Section 600.1015 | Late charges for fee payment, collection, deposit, and/or disbursement.
Section 600.1016 | NMFS enforcement of all fee provisions.

The groundfish program fee rule has only one section (600.1102), but all of the section's paragraphs specifically involve or affect the groundfish program's reduction loan or the fees which will repay the loan. The groundfish program fee rule involves the following reduction loan and fee matters specific to the groundfish program fee:

Section | Matter
(a) | The rule's purpose.
(b) | Definition of terms which the rule uses.
(c) | Reduction loan amount.
(d) | Reduction loan sub-amounts for the reduction fishery and each of the six fee-share fisheries.
(e) | Interest accrual inception.
(f) | Interest rate.
(g) | Repayment term.
(h) | Subjection of the groundfish program reduction loan to § 600.1012 of the framework rule and subjection of groundfish program fee payment and collection to § 600.1013 of the framework rule.
(i) | Subjection of groundfish program fee collection, deposit, disbursement, records, and reports to § 600.1014 of the framework rule, except for a specified departures from the § 600.1014 requirements.

Although fish sellers and, particularly, all fish buyers should carefully read the applicable regulations for full fee payment, collection, deposit, disbursement, recording, and reporting requirements, the following is a brief and informal synopsis:

The first ex-vessel fish buyers of fee fish must withhold the fee from the trip proceeds which the fish buyers would otherwise have paid to the fish sellers who harvested and first sold the fee fish to the fish buyers. Fish buyers collect the fee when they withhold it from trip proceeds, and fish sellers automatically pay the fee when the fish buyers withhold it before paying the net trip proceeds to the fish sellers. Fish buyers must calculate the fee to be collected by multiplying the applicable fee rate (depending on whether the fee fish is from the reduction fishery or from one or more of the six fee-share fisheries) times the fee fish's full delivery value. Delivery value is the fee fish's full fair market value, including all in-kind compensation or other goods or services exchanged in lieu of cash.

Fish buyers must deposit collected fees not less frequently than at the end of each month. The deposit account must be at a Federally insured institution. The deposit account may also include the fish buyers general operating funds, but only if it separately accounts for all collected fees (both in the aggregate and for each of the seven fee paying fisheries). Fish buyers may neither pledge nor assign collected fee deposits. Fish buyers may not use collected fee deposits for any purpose whatsoever other than aggregating them for disbursement to NMFS.

Fish buyers must disburse to NMFS all collected fee deposits not less frequently than necessary for NMFS to have received the disbursement by the 14th calendar day after the last calendar day of each month if the collected fee deposits then total $100 or more. If collected fees do not total $100 or more at the time fish buyers must disburse them, fish buyers may delay disbursement until either the next month in which collected fee deposits exceed $100 or the end of the calendar year of deposit (regardless of amount), whichever comes first.

Fish buyers must accompany each disbursement with a fee collection report on NMFS's report form and completed in the manner NMFS specifies.

All fish buyers must maintain for at least three years detailed records of fee collection, deposit, and disbursement. along with the landing records required to audit fee payment and collection. Paragraph (i)(4) of the groundfish program's fee rule (50 CFR 600.1102) specify the fee payment and collection records which fish buyers must maintain.

Fee payment and fee collection are mandatory, and there are substantial penalties for failing to pay and collect fees in accordance with the applicable regulations. In addition to applying these penalties, NMFS will also enforce the collection of all fee payment and collection by adding late charges and bring legal actions for collection enforcement against any fish seller or fish buyer who fails to pay, collect, deposit, and/or disburse the fee in accordance with the regulations. NMFS will audit ex-vessel landing records and fish buyer records for the purpose of determining and enforcing compliance.

To provide more accessible services, streamline collections, and save taxpayer dollars, fish buyers may disburse collected fee deposits to NMFS by using a secure Federal system on the Internet known as Pay.gov. Pay.gov enables fish buyers to use either their checking accounts or their credit cards to electronically disburse their collected fee deposits to NMFS. Fish buyers who have access to the Internet should consider using this quick and easy collected fee disbursement method. Fish buyers may access Pay.gov by going directly to Pay.gov's Federal website at: https://www.pay.gov/paygov/.

Fish buyers who do not have access to the Internet or who simply do not wish to use the Pay.gov electronic system, must disburse their collected fee deposits to us by sending their checks to our lockbox. Our lockbox's address is:

NOAA Fisheries Pacific Coast Groundfish Buyback

P. O. Box 979059

St. Louis, MO 63197-9000

Fish buyers' must not forget to include with their disbursements the fee collection report applicable to each disbursement. The fee collection report tells NMFS how much of the disbursement it must apply to each of the seven reduction loan subamounts. Fish buyers using Pay.gov will find an electronic fee collection report form to receive information and accompany electronic disbursements. Fish buyers who do not use Pay.gov must include a hard copy fee collection report with each of their disbursements. See the attachment to this notice. Fish buyers not using Pay.gov may also access the NMFS website for an Excel spreadsheet version of the fee collection report at: http://www.nmfs.noaa.gov/mb/financial_services/.

NMFS will, before the fee's effective date, separately mail a copy of this notice, along with detailed fee payment, collection, deposit, disbursement, recording, and reporting information and guidance, to each fish seller and fish buyer of whom NMFS has notice. The fact that any fish seller or fish buyer might not, however, receive from NMFS a copy of the notice or of the information and guidance does not relieve the fish seller or fish buyer from his fee obligations under the applicable regulations.

This action has been determined to be not significant for purposes of Executive Order 12866.

The Assistant Administrator for NMFS, finds that good cause exists for this notification to be issued without affording prior notice and opportunity for public comment under 5 U.S.C. 553(b)(B) because such notification would be unnecessary. Actual notice of the regulatory action was provided to, and comments were received from the public during the rulemaking process. This action merely establishes the start date of the groundfish program's industry fee system which was made effective in a previous final rule in accordance with the framework rule's § 600.1013(d). No new requirements are implemented by this action.

Because notice and comment are not required under 5 U.S.C. 553, or any other law, the analytical requirements of the Regulatory Flexibility Act, 5 U.S.C. 601 et seq., are not applicable.

This action contains collection-of-information requirements subject to the Paperwork Reduction Act. The Office of Management and Budget (OMB) has approved these information collections under OMB control number 0648-0376. NMFS estimates that the public reporting burden for these requirements will average:

Two hours for submitting a monthly fish buyer fee collection report; and

Two hours for making a fish buyer/fish seller report when one party fails to either pay or collect the fee.

These response estimates include the time for reviewing instructions, searching existing data sources, gathering and maintaining the data needed, and completing and reviewing the information collection.

Notwithstanding any other provision of law, no person is required to respond to, and no person is subject to a penalty for failure to comply with, an information collection subject to the requirements of the PRA unless that information collection displays a currently valid OMB control number.

Authority: Pub. L. 107-206, Pub. L. 108-7, 16 U.S.C. 1861a (b-e), and 50 CFR 600.1000 et seq.

Dated: August 3, 2005.
William T. Hogarth,
Assistant Administrator for Fisheries, National Marine Fisheries Service.

BILLING CODE 3510-22-S

[FR Doc. 05-15643 Filed 8-5-05; 8:45 am]

BILLING CODE 3510-22-C